DEPARTMENT OF THE INTERIOR

National Park Service

Notice of Intent to Repatriate Cultural Items: Springfield Science Museum, Springfield, MA

AGENCY: National Park Service, Interior.

ACTION: Notice.

Notice is here given in accordance with the Native American Graves Protection and Repatriation Act (NAGPRA), 25 U.S.C. 3005, Sec. 7, of the intent to repatriate cultural items in the possession of the Springfield Science Museum, Springfield, MA, that meet the definition of “sacred objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The eight cultural items, removed from various locations in western Massachusetts, are a ceramic elbow pipe, a steatite elbow pipe, a steatite pipe with incised decoration, a clay tubular pipe stem, a worked bone tubular pipe, a steatite turtle pipe, a slate animal effigy pipe bowl, and a steatite platform pipe.

In 1929, L. Lamb donated a ceramic elbow pipe from an unknown site in South Hadley, Hampshire County, MA, to the Springfield Science Museum. The circumstances surrounding its removal from South Hadley are unknown. This pipe likely dates to the Late Woodland period (circa A.D. 1000-1580).

In 1982, the Springfield Science Museum acquired a steatite elbow pipe from an unknown site in Belchertown, Hampshire County, MA. This item was donated to the museum by C.W. Hull who purchased it from S. Grasso. The circumstances surrounding its removal from Belchertown are unknown. This pipe likely dates to the Late Woodland period (circa A.D. 1000-1580).

Also in 1982, the Springfield Science Museum acquired a steatite tubular pipe stem with incised decorations from an unknown site in Agawam, Hampden County, MA. This item was donated to the museum by C.W. Hull. The circumstances surrounding its removal from Agawam are unknown. This pipe likely dates to the Early Woodland period (circa 1000 B.C.-A.D. 600).

In 1986, the Springfield Science Museum acquired a clay tubular pipe stem and a worked bone tubular pipe, which had been removed from the Bark Wigwams site (MA site 19-HS-280), Northampton, Hampshire County, MA, by W.S. Rodimon. The year the objects were removed is unknown. The Bark Wigwams site likely dates to the Early Historic period (circa A.D. 1625-1637) based on the presence of Dutch trade beads recovered from the site.

Also in 1986, the Springfield Science Museum acquired a steatite turtle pipe, which had been removed from MA site 19-FR-24 in Deerfield, Franklin County, MA, by W.S. Rodimon. The year it was removed is unknown. The site in Deerfield likely dates to the Late Woodland and Contact periods (circa A.D. 1580-1700).

Also in 1986, the Springfield Science Museum acquired a slate animal effigy pipe removed from the Baptist Hill site in Palmer, Hampden County, MA, by C.W. Hull. The year it was removed is unknown. The Baptist Hill site likely dates to the Late Woodland and Contact periods (circa A.D. 1580-1700).

In 1986, the Springfield Science Museum acquired a steatite platform pipe removed from the Riverside Y-4 site (MA site19-FR-269), Gill, Franklin County, MA, by W.S. Rodimon. The year it was removed is unknown. The site in Gill likely dates to the Middle Woodland period (circa A.D. 600-1000).

Based on the geographic location of these sites within the historically known homeland of the Mohican Indians, these pipes are most likely culturally affiliated with the Stockbridge Munsee Community, Wisconsin, also known as the Stockbridge Munsee Tribe of Mohican Indians. The Stockbridge Indians were removed from Massachusetts in the late 1700s. Mohican traditional religious leaders indicated during consultation that the pipes are needed for the practice of traditional Mohican religion by present-day adherents.

Officials at the Springfield Science Museum have determined that, pursuant to 25 U.S.C. 3001, Sec. 2 (3)(C), these eight pipes are specific ceremonial objects needed by traditional Native American religious leaders for the practice of traditional Native American religions by their present-day adherents. Officials of the Springfield Science Museum also have determined that, pursuant to 25 U.S.C. 3001, Sec. 2 (2), there is a relationship of shared group identity that can be reasonably traced between these sacred objects and the Stockbridge Munsee Community, Wisconsin.

Representatives of any other Indian tribe that believes itself to be culturally affiliated with these sacred objects should contact David Stier, Director, Springfield Science Museum, 220 State Street, Springfield, MA 01103, telephone (413) 263-6800, extension 321, before April 7, 2003. Repatriation of these sacred objects to the Stockbridge Munsee Community, Wisconsin may proceed after that date if no additional claimants come forward.

The Springfield Science Museum is responsible for notifying the Stockbridge Munsee Community, Wisconsin that this notice has been published.

Dated: January 24, 2003.
John Robbins,
Assistant Director, Cultural Resources Stewardship and Partnerships.

[FR Doc. 03-5511 Filed 3-6-03; 8:45 am]

BILLING CODE 4310-70-S